DEPARTMENT OF COMMERCE

National Oceanic and Atmospheric Administration

50 CFR Part 622

[Docket No. 200401-0096]

RIN 0648-BJ08

Fisheries of the Caribbean, Gulf of Mexico, and South Atlantic; Reef Fish Fishery of the Gulf of Mexico; Greater Amberjack Management Measures

AGENCY: National Marine Fisheries Service (NMFS), National Oceanic and Atmospheric Administration (NOAA), Commerce.

ACTION: Final rule.

SUMMARY: NMFS issues regulations to implement management measures described in a framework action to the Fishery Management Plan for the Reef Fish Resources of the Gulf of Mexico (FMP). This final rule revises the commercial trip limit in the Gulf of Mexico (Gulf) exclusive economic zone (EEZ) for greater amberjack. In addition, this final rule revises the boundaries of several Gulf reef fish management areas to reflect a change in the seaward boundary of Louisiana, Mississippi, and Alabama. The purpose of this final rule is to extend the commercial fishing season for greater amberjack by constraining the harvest rate while continuing to prevent overfishing and rebuild the stock in the Gulf, and to update the boundaries of reef fish management areas to reflect the current state water's boundaries for reef fish management.

DATES: This final rule is effective on May 14, 2020.

ADDRESSES: Electronic copies of the framework action, which includes an environmental assessment, a regulatory impact review, and a Regulatory Flexibility Act (RFA) analysis may be obtained from the Southeast Regional Office website at https://www.fisheries.noaa.gov/action/framework-action-greater-amberjack-commercial-trip-limits.

FOR FURTHER INFORMATION CONTACT: Kelli O'Donnell, Southeast Regional Office, NMFS, telephone: 727-824-5305, email: kelli.odonnell@noaa.gov.

SUPPLEMENTARY INFORMATION: The Gulf reef fish fishery includes greater amberjack and is managed under the FMP. The FMP was prepared by the Gulf of Mexico Fishery Management Council (Council) and is implemented by NMFS through regulations at 50 CFR part 622 under the authority of the Magnuson-Stevens Fishery Conservation and Management Act (Magnuson-Stevens Act).

On December 19, 2019, NMFS published a proposed rule in the Federal Register for the framework action and requested public comment (84 FR 69715, December 19, 2019). The proposed rule and the framework action outline the rationale for the actions contained in this final rule. A summary of the management measures described in the framework action and implemented by this final rule is provided below.

Management Measure Contained in This Final Rule

This final rule reduces the Gulf greater amberjack commercial trip limit from 1,500 lb gutted weight (680 kg; 1,560 lb (708 kg) round weight) to 1,000 lb gutted weight (454 kg; 1,040 lb (472 kg) round weight). Additionally, this final rule reduces the commercial trip limit to 250 lb gutted weight (113 kg; 260 lb (118 kg) round weight) when 75 percent of the commercial annual catch target (commercial quota) has been landed.

This commercial trip limit reduction is expected to extend the length of the commercial fishing season while continuing to allow enough harvest per trip to support vessels that engage in directed trips for greater amberjack. An in-season closure of the commercial sector for greater amberjack is still expected to occur as a result of the commercial quota being reached, but will likely occur later in the January through December fishing year than has occurred in recent years.

Changes in This Final Rule Not in the Framework Action

This final rule revises the boundaries of three Gulf reef fish management areas to reflect a change in the seaward boundaries of Louisiana, Mississippi, and Alabama for purposes of management under the FMP. Language included in the 2016 and 2017 Consolidated Appropriations Acts (Pub. L. 114-113, December 18, 2015, and Pub. L. 115-31, May 5, 2017), changed the state and Federal boundary for management of the Gulf reef fish fishery to 9 nautical miles (nm; 16.7 km) off the Gulf coasts of all the Gulf States. Therefore, some existing Federal reef fish management areas that were exclusively in Federal waters now extend into state managed areas.

This final rule updates the FMP regulations by revising the coordinates of the inshore boundaries for the reef fish stressed area (Table 2 of appendix B to 50 CFR part 622), the reef fish longline and buoy gear restricted area (Table 1 of appendix B to 50 CFR part 622), and the recreational shallow-water grouper closure (50 CFR 622.34(d)). This rule also updates the terminology in the coordinate tables to reflect that this boundary is specific to Gulf reef fish management. This rule does not change the management measures associated with each area.

Comments and Responses

NMFS received a total of 20 comments on the proposed rule for the framework action. Most commenters supported the measures for Gulf greater amberjack in the proposed rule. Other comments suggested changes to management measures that were outside the scope of the proposed rule, such as gear restrictions and a prohibition on commercial harvest, and therefore, are not addressed further. Specific comments related to the framework action and the proposed rule are grouped by topic and summarized below, followed by NMFS' respective responses.

Comment 1: The commercial trip limit for Gulf greater amberjack should be reduced further than 1,000 lb gutted weight (454 kg) with a trip limit reduction to 250 lb gutted weight (113 kg) when 75 percent of the commercial quota is harvested.

Response: NMFS disagrees that the trip limit should be reduced more than specified in this final rule. The Council considered three other alternatives for a commercial trip limit that ranged from 750 lb to 250 lb gutted weight (340 kg to 113 kg). However, the Council determined that these trip limits were too small to allow for directed commercial trips for Gulf greater amberjack based on public testimony by commercial fishermen, who indicated that they needed to harvest at least as 1,000 lb gutted weight (454 kg) or more per trip. Additionally, the alternative trip limits of 250 lb gutted weight (113 kg) year-round, or 500 lb gutted weight (227-kg; 520-lb (236-kg) round weight) with a reduction to 250 lb gutted weight (113 kg) at 75 percent of the commercial quota, were not expected to allow fishermen to harvest all of the commercial quota during a fishing year. Therefore, the Council determined, and NMFS agrees, that the reduction in the trip limit to 1,000 lb gutted weight (454 kg), and a further reduction to 250 lb gutted weight (113 kg) when 75 percent of the commercial quota is harvested, best balances the need of fishermen who rely on directed trips for Gulf greater amberjack and fishermen who rely on having a longer season.

Comment 2: The commercial trip limit for greater amberjack in the Gulf should remain the same or be increased.

Response: NMFS disagrees. The previous commercial trip limit of 1,500 lb gutted weight (680 kg) has been in effect since 2016 (80 FR 75432; December 2, 2015). From 2013 to 2016, a 2,000-lb round weight (907-kg) commercial trip limit was in effect (77 FR 67574; November 13, 2012). These commercial trip limits did not reduce harvest of Gulf greater amberjack enough to prevent yearly in-season commercial closures. Therefore, maintaining the previous trip limit or increasing the trip limit would not help achieve the purpose of this rule, which is to extend the Gulf greater amberjack commercial fishing season. Analysis included in the framework action predicted that, when compared to the alternatives considered, the shortest commercial fishing season would occur under the 1,500-lb gutted weight (680-kg) commercial trip limit, even with the current March through May seasonal closure. A larger commercial trip limit would result in an even shorter commercial fishing season. While NMFS still predicts that an in-season closure will occur with the reduced trip limit implemented through this final rule, the closure should occur later in the fishing year, thereby extending the opportunity for commercial harvest.

Comment 3: If commercial harvest for greater amberjack in the Gulf extends into the summer spawning season, the stock will be harmed.

Response: NMFS disagrees. This final rule does not change the commercial seasonal closure for greater amberjack of March 1 through May 31, which is in place to protect the stock during the majority of spawning activity in the Gulf. In addition, the harvest by the commercial sector will still be constrained by the commercial quota, which will not change through this final rule. Furthermore, extending the commercial season may help to reduce discards and discard mortality because it will allow harvest later in the year.

Comment 4: The greater amberjack commercial trip limit of 1,000 lb gutted weight (454 kg) will negatively impact business owners harvesting more than this amount per trip. In addition, the further reduction in the trip limit to 250 lb gutted weight (113 kg) when 75 percent of the commercial quota is harvested will not allow fishermen on directed commercial trips for greater amberjack to effectively harvest the remaining 25 percent of the commercial quota.

Response: NMFS agrees that the reduction in the trip limit may have negative economic impacts on Gulf commercial reef fish permit holders who have historically harvested more than 1,000 lb gutted weight (454 kg) of greater amberjack per trip. The economic analysis in the framework action estimated that the 1,000-lb gutted weight (454-kg) commercial trip limit will reduce the catch per trip by approximately 18 percent, and on average, greater amberjack accounts for about 1.7 percent of total revenues from commercial Gulf reef fish trips. Therefore, the potential revenue reduction from the reduced commercial trip limit will be approximately 0.3 percent. However, the 1,000-lb gutted weight (454-kg) trip limit in combination with the 250-lb gutted weight (113-kg) trip limit reduction when 75 percent of the commercial quota is harvested is estimated to extend the fishing season from 85 days to 170 days. This may allow commercial vessels to recoup revenue losses from reduced trip limits. Further, as noted in response to Comment 1, the commercial trip limit in this final rule balances the need of fishermen who rely on directed trips and fishermen who rely on having a longer season.

Comment 5: Reducing the commercial trip limit for Gulf greater amberjack will increase discards and will be bad for the stock.

Response: NMFS disagrees. As explained in the framework action, studies have documented low bycatch and bycatch mortality of greater amberjack because fishermen who want to target the species are able to find schools when the season is open and avoid them when there is a closure. For fishermen who incidentally catch greater amberjack when targeting other species, extending the commercial season may help reduce discards and discard mortality by allowing those fish to be kept later in the year.

Comment 6: Moving the boundary between state and Federal waters off Louisiana, Mississippi, and Alabama could cause confusion.

Response: This rule does not change the boundary between state and Federal waters off Louisiana, Mississippi, and Alabama. The 2016 and 2017 Appropriations Acts moved state and Federal boundary off Louisiana, Mississippi, and Louisiana to 9 nm (16.7 km) for Gulf reef fish management only. This rule revises the boundaries of three Gulf reef fish management areas to reflect the change in the seaward boundary of these states for management purposes under the FMP. As previously codified, the boundaries for these Federal management areas extended into state managed areas. NMFS expects that updating the boundaries for the affected Gulf reef fish management areas will reduce confusion because these regulatory boundaries will be consistent with the boundaries specified in the Appropriations Acts.

Classification

The Regional Administrator for the NMFS Southeast Region has determined that this final rule is consistent with the framework action, the FMP, the Magnuson-Stevens Act, and other applicable laws.

This final rule has been determined to be not significant for purposes of Executive Order 12866.

This final rule is not an Executive Order 13771 regulatory action because this action is not significant under Executive Order 12866.

The Magnuson-Stevens Act provides the statutory basis for this final rule. No duplicative, overlapping, or conflicting Federal rules have been identified. In addition, no new reporting, recordkeeping, or other compliance requirements are introduced by this final rule.

The Chief Counsel for Regulation of the Department of Commerce certified to the Chief Counsel for Advocacy of the Small Business Administration (SBA) during the proposed rule stage that this rule, if adopted, would not have a significant economic impact on a substantial number of small entities. The factual basis for this determination was published in the proposed rule and is not repeated here. One comment from the public on economic impacts was received, and is addressed in the Comments and Responses section in the response to Comment 4. No comments from the public or the SBA's Chief Counsel for Advocacy were received regarding the certification, and NMFS has not received any new information that would affect its determination. As a result, a final regulatory flexibility analysis is not required and none has been prepared.

List of subjects in 50 CFR Part 622

Boundary, Commercial, Coordinates, Fisheries, Fishing, Greater amberjack, Gulf of Mexico, Reef fish, Trip limits.

Dated: April 1, 2020.
Samuel D. Rauch III,
Deputy Assistant Administrator for Regulatory Programs, National Marine Fisheries Service.

For the reasons set out in the preamble, 50 CFR part 622 is amended as follows:

PART 622—FISHERIES OF THE CARIBBEAN, GULF OF MEXICO, AND SOUTH ATLANTIC

1. The authority citation for part 622 continues to read as follows:

Authority: 16 U.S.C. 1801 et seq.

2. In § 622.34, revise paragraph (d) to read as follows:

§ 622.34 Seasonal and area closures designed to protect Gulf reef fish.

* * * * *

(d) Seasonal closure of the recreational sector for shallow-water grouper (SWG). The recreational sector for SWG in or from the Gulf EEZ is closed each year from February 1 through March 31 in the portion of the Gulf EEZ seaward of rhumb lines connecting the following points in order. During the closure, the bag and possession limits for SWG in or from the Gulf EEZ seaward of the following rhumb lines are zero.

Table 4 to Paragraph (d)
Point | North lat. | West long.
1 | 24°48.0′ | 82°48.0′
2 | 25°07.5′ | 82°34.0′
3 | 26°26.0′ | 82°59.0′
4 | 27°30.0′ | 83°21.5′
5 | 28°10.0′ | 83°45.0′
6 | 28°11.0′ | 84°00.0′
7 | 28°11.0′ | 84°07.0′
8 | 28°26.6′ | 84°24.8′
9 | 28°42.5′ | 84°24.8′
10 | 29°05.0′ | 84°47.0′
11 | 29°02.5′ | 85°09.0′
12 | 29°21.0′ | 85°30.0′
13 | 29°27.9′ | 85°51.7′
14 | 29°45.8′ | 85°51.0′
15 | 30°05.6′ | 86°18.5′
16 | 30°07.5′ | 86°56.5′
17 | 29°43.9′ | 87°33.8′
18 | 29°43.0′ | 88°18.5′
19 | 29°18.9′ | 88°50.7′ at State and Federal Reef Fish Management Boundary, follow Reef Fish Management Boundary to point 20
20 | 28°58.98′ | 89°35.1′ at State and Federal Reef Fish Management Boundary
21 | 29°02.0′ | 89°45.5′
22 | 28°32.7′ | 90°21.5′
23 | 28°24.8′ | 90°52.7′
24 | 28°42.3′ | 92°14.4′
25 | 28°34.2′ | 92°30.4′
26 | 28°27.6′ | 95°00.0′
27 | 28°20.0′ | 95°06.9′
28 | 28°02.2′ | 96°11.1′
29 | 27°46.5′ | 96°38.1′
30 | 27°15.0′ | 97°00.0′
31 | 26°45.5′ | 97°01.4′
32 | At EEZ boundary | 96°51.0′

* * * * *

3. In § 622.43, revise paragraph (a) to read as follows:

§ 622.43 Commercial trip limits.

* * * * *

(a) Gulf greater amberjack. (1) Until 75 percent of the quota specified in § 622.39(a)(1)(v) is reached, 1,000 lb (454 kg), gutted weight; 1,040 lb (472 kg), round weight.

(2) After 75 percent of the quota is reached or projected to be reached, 250 lb (113 kg), gutted weight; 260 lb (118 kg), round weight. See § 622.39(b) for the limitations regarding greater amberjack after the quota is reached. When the conditions in this paragraph (a)(2) have been reached, the Assistant Administrator will implement this trip limit change by filing a notification with the Office of the Federal Register.

* * * * *

4. Revise appendix B to read as follows:

Appendix B to Part 622—Gulf Areas

Table 1 of Appendix B to Part 622—Seaward Coordinates of the Longline and Buoy Gear Restricted Area
Point number and reference location 1 | North lat. | West long.
1 Seaward limit of State and Federal Reef Fish Management Boundary north of Dry Tortugas | 24°48.0′ | 82°48.0′
2 North of Rebecca Shoal | 25°07.5′ | 82°34.0′
3 Off Sanibel Island—Offshore | 26°26.0′ | 82°59.0′
4 West of Egmont Key | 27°30.0′ | 83°21.5′
5 Off Anclote Keys—Offshore | 28°10.0′ | 83°45.0′
6 Southeast corner of Florida Middle Ground | 28°11.0′ | 84°00.0′
7 Southwest corner of Florida Middle Ground | 28°11.0′ | 84°07.0′
8 West corner of Florida Middle Ground | 28°26.6′ | 84°24.8′
9 Northwest corner of Florida Middle Ground | 28°42.5′ | 84°24.8′
10 South of Carrabelle | 29°05.0′ | 84°47.0′
11 South of Cape St. George | 29°02.5′ | 85°09.0′
12 South of Cape San Blas lighted bell buoy—20 fathoms | 29°21.0′ | 85°30.0′
13 South of Cape San Blas lighted bell buoy—50 fathoms | 28°58.7′ | 85°30.0′
14 De Soto Canyon | 30°06.0′ | 86°55.0′
15 South of Pensacola | 29°46.0′ | 87°19.0′
16 South of Perdido Bay | 29°29.0′ | 87°27.5′
17 East of North Pass of Mississippi River | 29°14.5′ | 88°28.0′
18 East of South Pass of Mississippi River | 29°04.0′ | 88°49.7′ at State and Federal Reef Fish Management Boundary
Then westerly along the seaward limit of the State and Federal Reef Fish Management Boundary to:
19 South of Southwest Pass of Mississippi River | 28°46.5′ | 89°26.0′
20 Northwest tip of Mississippi Canyon | 28°38.5′ | 90°08.5′
21 West side of Mississippi Canyon | 28°34.5′ | 89°59.5′
22 South of Timbalier Bay | 28°22.5′ | 90°02.5′
23 South of Terrebonne Bay | 28°10.5′ | 90°31.5′
24 South of Freeport | 27°58.0′ | 95°00.0′
25 Off Matagorda Island | 27°43.0′ | 96°02.0′
26 Off Aransas Pass | 27°30.0′ | 96°23.5′
27 Northeast of Port Mansfield | 27°00.0′ | 96°39.0′
28 East of Port Mansfield | 26°44.0′ | 96°37.5′
29 Northeast of Port Isabel | 26°22.0′ | 96°21.0′
30 U.S. and Mexico EEZ boundary | 26°00.5′ | 96°24.5′
Then westerly along U.S. and Mexico EEZ boundary to seaward limit of the State and Federal Reef Fish Management Boundary
1 Nearest identifiable landfall, boundary, navigational aid, or submarine area.

Table 2 of Appendix B to Part 622—Seaward Coordinates of the Stressed Area
Point number and reference location 1 | North lat. | West long.
1 Seaward limit of State and Federal Reef Fish Management Boundary northeast of Dry Tortugas | 24°45.5′ | 82°41.5′
2 North of Marquesas Keys | 24°48.0′ | 82°06.5′
3 Off Cape Sable | 25°15.0′ | 82°02.0′
4 Off Sanibel Island—Inshore | 26°26.0′ | 82°29.0′
5 Off Sanibel Island—Offshore | 26°26.0′ | 82°59.0′
6 West of Egmont Key | 27°30.0′ | 83°21.5′
7 Off Anclote Keys—Offshore | 28°10.0′ | 83°45.0′
8 Off Anclote Keys—Inshore | 28°10.0′ | 83°14.0′
9 Off Deadman Bay | 29°38.0′ | 84°00.0′
10 Seaward limit of State and Federal Reef Fish Management Boundary east of Cape St. George | 29°35.5′ | 84°38.6′
Then westerly along the seaward limit of State and Federal Reef Fish Management Boundary to:
11 Seaward limit of State and Federal Reef Fish Management Boundary south of Cape San Blas | 29°32.2′ | 85°27.1′
12 Southwest of Cape San Blas | 29°30.5′ | 85°52.0′
13 Off St. Andrew Bay | 29°53.0′ | 86°10.0′
14 De Soto Canyon | 30°06.0′ | 86°55.0′
15 South of Florida and Alabama border | 29°34.5′ | 87°38.0′
16 Off Mobile Bay | 29°41.0′ | 88°00.0′
17 South of Alabama and Mississippi border | 30°01.5′ | 88°23.7′
18 Horn and Chandeleur Islands | 30°01.5′ | 88°39.8′ at State and Federal Reef Fish Management Boundary
Then southerly along the seaward limit of State and Federal Reef Fish Management Boundary to:
19 Seaward limit of State and Federal Reef Fish Management Boundary off Chandeleur Islands | 29°50.8′ | 88°39.07′ at State and Federal Reef Fish Management Boundary
20 Chandeleur Islands | 29°35.5′ | 88°37.0′
21 Seaward limit of State and Federal Reef Fish Management Boundary off North Pass of Mississippi River | 29°21.0′ | 88°54.43′ at State and Federal Reef Fish Management Boundary
Then southerly and westerly along the seaward limit of State and Federal Reef Fish Management Boundary to:
22 Seaward limit of State and Federal Reef Fish Management Boundary off Southwest Pass of Mississippi River | 29°01.3′ | 89°34.67′ at State and Federal Reef Fish Management Boundary
23 Seaward limit of the State and Federal Reef Fish Management Boundary west of Mississippi River | 29°5.24′ at State and Federal Reef Fish Management Boundary | 89°41.0′
Then westerly along the seaward limit of the State and Federal Reef Fish Management Boundary to:
24 Seaward limit of State and Federal Reef Fish Management Boundary south of Grand Isle | 29°3.03′ at State and Federal Reef Fish Management Boundary | 89°56.0′
25 Quick flashing horn buoy south of Isles Dernieres | 28°32.5′ | 90°42.0′
26 Southeast of Calcasieu Pass | 29°10.0′ | 92°37.0′
27 South of Sabine Pass—10 fathoms | 29°09.0′ | 93°41.0′
28 South of Sabine Pass—30 fathoms | 28°21.5′ | 93°28.0′
29 East of Aransas Pass | 27°49.0′ | 96°19.5′
30 East of Baffin Bay | 27°12.0′ | 96°51.0′
31 Northeast of Port Mansfield | 26°46.5′ | 96°52.0′
32 Northeast of Port Isabel | 26°21.5′ | 96°35.0′
33 U.S. and Mexico EEZ boundary | 26°00.5′ | 96°36.0′
Then westerly along U.S. and Mexico EEZ boundary to seaward limit of the State and Federal Reef Fish Management Boundary
1 Nearest identifiable landfall, boundary, navigational aid, or submarine area.

[FR Doc. 2020-07253 Filed 4-13-20; 8:45 am]

BILLING CODE 3510-22-P